DEPARTMENT OF HOMELAND SECURITY

Federal Emergency Management Agency

Agency Information Collection Activities: Submission for OMB Review; Comment Request

AGENCY: Federal Emergency Management Agency, Emergency Preparedness and Response Directorate, Department of Homeland Security.

ACTION: Notice and request for comments.

SUMMARY: The Federal Emergency Management Agency has submitted the following proposed information collection to the Office of Management and Budget for review and clearance in accordance with the requirements of the Paperwork Reduction Act of 1995 (44 U.S.C. 3507).

Title: Fire Suppression Assistance Program.

Type of Information Collection: Extension of a currently approved collection.

OMB Number: 1660-0067.

Abstract: FEMA provides assistance for fire suppression of forest or grassland fires, which threatens destruction to life and/or improved property as would constitute a major disaster under Fire Suppression Assistance Program (FSAP). FEMA Form 20-10, Financial Status Report, is used by the Grantee during the closeout process to provide FEMA with a final reporting of costs under the FSAP. FEMA Form 90-91, Project Worksheet, is prepared by FEMA and State staff working with the Principal Advisor. Standard Form (SF) 424, Request for Federal Assistance, is used by the State to apply for a grant under the fire suppression assistance declaration. Standard Form 270, Request for Advance or Reimbursement, is used by the State as an alternative to SMARTKLINK II to receive funds. In addition, under section 420 of the Stafford Act there must be a FEMA-State Agreement. Also, a State Administrative Plan must be developed by the State for the Administration of a Fire Suppression Assistance Grant. The plan must designate the State agency that will be responsible for the administration of the program, describe the procedures for the administration of the fire suppression grant, and ensure compliance with the law and regulation applicable to (FSA) grants and ensure the administrative plan is incorporated into the State Emergency Plan. Applicants are required to notify FEMA of all benefits, actual or anticipated, received from other sources for the loss for which they are applying to FEMA for assistance. The State may appeal any cost or eligibility determination under the approved declaration within 60 days after receipt of the notice of action being appealed.

Affected Public: State, Local or Tribal Government and Federal Government.

Number of Respondents: 42.

Estimated Time per Respondent: FEMA-State Agreement and Amendment, 1.5 hours; Standard Form 424, 1 hour; FEMA Form 90-91, 30 minutes; FEMA Form 20-10, 1 hour; Standard Form 270, 30 minutes; State Administrative Plan, 8 hours; State Hazard Mitigation Plan, 160 hours; Appeals, 1 hour; Duplication of Benefits, 1 hour.

Estimated Total Annual Burden Hours: 1972 hours.

Frequency of Response: Other, as needed.

Comments: Interested persons are invited to submit written comments on the proposed information collection to the Office of Information and Regulatory Affairs, Office of Management and Budget, (Attention: Desk Officer for the Federal Emergency Management Agency, Emergency Preparedness and Response Directorate, Department of Homeland Security), Washington, DC 20503 within 30 days of the date of this notice.

FOR FURTHER INFORMATION CONTACT: Requests for additional information or copies of the information collection should be made to Muriel B. Anderson, Chief, Records Management Branch, Information Resources Management Division, Information Technology Services Directorate, Federal Emergency Management Agency, Emergency Preparedness and Response Directorate, Department of Homeland Security, 500 C Street, SW., Room 316, Washington, DC 20472, facsimile number (202) 646-3347, or email address InformationCollections@fema.gov.

Dated: June 30, 2003.
Vernon Adler,
Acting Division Director, Information Resources Management Division, Information Technology Services Directorate.

[FR Doc. 03-17010 Filed 7-3-03; 8:45 am]

BILLING CODE 6718-01-P